DEPARTMENT OF THE INTERIOR

Bureau of Land Management

[MTM 91636]

Public Land Order No. 7757; Withdrawal of National Forest System Land for the Big Ice Cave; Montana

AGENCY: Bureau of Land Management, Interior.

ACTION: Public Land Order.

SUMMARY: This order withdraws 170 acres of National Forest System land from location and entry under the United States mining laws for a period of 20 years on behalf of the United States Forest Service to protect the Big Ice Cave, its subterranean water supply, and Federal improvements. The land has been and will remain open to such forms of disposition as may by law be made of National Forest System land and to mineral leasing.

DATES: Effective Date: January 11, 2011.

FOR FURTHER INFORMATION CONTACT: Scott Bixler, U.S. Forest Service, Region 1, P.O. Box 7669, Missoula, Montana 59807, 406-329-3655, or Sandra Ward, Bureau of Land Management, Montana State Office, 5001 Southgate Drive, Billings, Montana 59101, 406-896-5052.

SUPPLEMENTARY INFORMATION: The Forest Service will manage the land to protect the Big Ice Cave, its subterranean water supply, and Federal improvements. The Big Ice Cave is a unique geologic and hydrologic formation with important cultural and recreational values.

Order

By virtue of the authority vested in the Secretary of the Interior by Section 204 of the Federal Land Policy and Management Act of 1976, 43 U.S.C. 1714, it is ordered as follows:

1. Subject to valid existing rights, the following-described National Forest System land is hereby withdrawn from location and entry under the United States mining laws, but not from leasing under the mineral leasing laws, to protect the Big Ice Cave, its subterranean water supply, and Federal improvements:

Custer National Forest

Principal Meridian, Montana

T. 8 S., R. 27 E.,

Sec. 3, SE¼;

Sec. 10, N½N½NW¼NE¼.

The area described contains 170 acres in Carbon County.

2. The withdrawal made by this order does not alter the applicability of those public land laws governing the use of National Forest System land under lease, license, or permit, or governing the disposal of the mineral or vegetative resources other than under the mining laws.

3. This withdrawal will expire 20 years from the effective date of this order, unless, as a result of a review conducted before the expiration date pursuant to Section 204(f) of the Federal Land Policy and Management Act of 1976, 43 U.S.C. 1714(f), the Secretary determines that the withdrawal shall be extended.

Dated: December 17, 2010.
Wilma A. Lewis,
Assistant Secretary—Land and Minerals Management.

[FR Doc. 2011-319 Filed 1-10-11; 8:45 am]

BILLING CODE 4310-11-P